DEPARTMENT OF HEALTH AND HUMAN SERVICES

Centers for Disease Control and Prevention

[60-Day 14-0004]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road NE., MS-D74, Atlanta, Georgia 30333; comments may also be sent by email to omb@cdc.gov.

Comments are invited on (a) whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

National Disease Surveillance Program II. Disease Summaries (0920-0004 Exp. 8/31/2014)—Revision—National Center for Immunization and Respiratory Diseases, Centers for Disease Control and Prevention (CDC).

Background and Brief Description

CDC requests a three year approval for a Revision of the National Disease Surveillance Program II. Disease Summaries information collection.

Proposed revisions include shifting information collection management responsibilities to the National Center for Immunization and Respiratory Diseases (NCIRD) and consolidating various forms to reflect more current technology trends. Also, CDC requests the use of the following new Influenza forms to enhance surveillance and assist in understanding the complexities of these newer viruses: Human Infection with Novel Influenza A Virus Severe Outcomes; Human Infection with Novel Influenza A Virus with Suspected Avian Source; and Antiviral Resistant Influenza Infection Case Report Form.

Due to the uncertainty regarding MERS-CoV and its threat to human health, CDC also has a need to use a Middle East Respiratory Syndrome Coronavirus (MERS-CoV) [Patient Under Investigation] form. Use of an Adenovirus Typing Report Form and discontinuing the use of the Harmful Algal Bloom-related Illness form is also requested. The Adenovirus Typing Report Form allows for a passive surveillance mechanism that collects adenovirus typing data to enhance adenovirus circulation data already collected by the National Respiratory and Enteric Virus Surveillance System (NREVSS).

The methodology for reporting varies depending on the occurrence, modes of transmission, infectious agents, and epidemiologic measures.

There is no cost to respondents other than their time.

The total estimated annualized burden hours are 31,921.

Table 1—Estimated Annualized Burden Hours and Costs
Type of respondents state epidemiologists: Form name | Number of respondents | Number of responses per respondent | Average burden per response (in hours) | Total burden (in hours)
Foodborne Outbreak Form (CDC 52.13) | 54 | 32 | 20/60 | 576
Influenza virus (Internet; year round) (CDC 55.31) | 35 | 52 | 10/60 | 303
-Influenza virus (electronic, year round) (PHLIP) | 49 | 52 | 5/60 | 212
-Influenza virus (electronic, year round) (PHIN-MS) | 3 | 52 | 5/60 | 13
U.S. WHO Collaborating Laboratories Influenza Testing Methods Assessment (CDC 55.31A) | 87 | 1 | 10/60 | 15
Weekly Influenza-like Illness (year round) (CDC 55.20) | 1,800 | 52 | 10/60 | 15,600
Daily Influenza-like illness (year round) | 75 | 365 | 10/60 | 4,563
Influenza-Associated Pediatric Death Case Report Form | 57 | 2 | 30/60 | 57
Novel Influenza A Virus Case Screening Form | 57 | 1 | 15/60 | 14
Novel Influenza A Virus Infection Contact Tracing Form | 57 | 1 | 30/60 | 29
Human Infection with Novel Influenza A Virus Case Report Form | 57 | 6 | 30/60 | 171
Novel and Pandemic Influenza A Virus Case Status Summary | 57 | 1 | 15/60 | 14
Human Infection with Novel Influenza A Virus Severe Outcomes | 57 | 1 | 1.5 | 86
Human Infection with Novel Influenza A Virus with Suspected Avian Source | 57 | 1 | 30/60 | 29
122 CMRS—City health officers or vital statistics registrars (daily) | 58 | 365 | 12/60 | 4,234
122 CMRS—City health officers or vital statistics registrars (weekly) | 122 | 52 | 12/60 | 1,269
Aggregate Hospitalization and Death Reporting Activity Weekly Report Form | 56 | 52 | 10/60 | 485
Antiviral Resistant Influenza Infection Case Report Form | 57 | 3 | 30/60 | 86
National Enterovirus Surveillance Report: (CDC 55.9) (electronic) | 25 | 12 | 15/60 | 75
National Respiratory & Enteric Virus Surveillance System (NREVSS) (CDC 55.83A, B, NREVSS Lab Assessment Form, D) (electronic) | 300 | 52 | 15/60 | 3,900
Adenovirus Typing Report Form | 25 | 12 | 15/60 | 75
Middle East Respiratory Syndrome Coronavirus (MERS) Patient Under Investigation (PUI) Form | 57 | 3 | 25/60 | 71
Suspected Viral Gastroenteritis (Calicivirus surveillance) | 20 | 5 | 15/60 | 25
Waterborne Diseases Outbreak Form (CDC 52.12) | 57 | 1 | 20/60 | 19
Total |  |  |  | 31,921

Leroy A. Richardson,
Chief, Information Collection Review Office, Office of Scientific Integrity, Office of the Associate Director for Science, Office of the Director, Centers for Disease Control and Prevention.

[FR Doc. 2014-04021 Filed 2-24-14; 8:45 am]

BILLING CODE 4163-18-P